NUCLEAR REGULATORY COMMISSION

Advisory Committee on Reactor Safeguards (ACRS) Subcommittee Meeting on Thermal-Hydraulic Phenomena; Revised

A portion of the ACRS Subcommittee meeting on Thermal-Hydraulic Phenomena scheduled to be held on May 15-16, 2007, Commissioners' Conference Room O-1G16, 11555 Rockville Pike, Rockville, Maryland, will be closed to discuss vendor proprietary information pursuant to 5 U.S.C. 552b(c)(4). All other items pertaining to this meeting remain the same as published previously in the Federal Register on Wednesday, May 2, 2007 (72 FR 24339).

FOR FURTHER INFORMATION CONTACT: Ms. Zena Abdullahi, Designated Federal Official (Telephone: 301-415-2808) between 7:30 a.m. and 4:15 p.m. (ET) or by e-mail zxa@nrc.gov.

Dated: May 9, 2007.
Cayetano Santos,
Branch Chief, ACRS.

[FR Doc. E7-9308 Filed 5-14-07; 8:45 am]

BILLING CODE 7590-01-P